DEPARTMENT OF HOUSING AND URBAN DEVELOPMENT

[Docket No. FR-4936-N-03]

Notice of Regulatory Waiver Requests Granted for the Third Quarter of Calendar Year 2004

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2004, and ending on September 30, 2004.

FOR FURTHER INFORMATION CONTACT: For general information about this notice, contact Aaron Santa Anna, Assistant General Counsel for Regulations, Room 10276, Department of Housing and Urban Development, 451 Seventh Street, SW., Washington, DC 20410-0500, telephone (202) 708-3055 (this is not a toll-free number). Persons with hearing-or speech-impairments may access this number through TTY by calling the toll-free Federal Information Relay Service at 800-877-8339.

For information concerning a particular waiver that was granted and for which public notice is provided in this document, contact the person whose name and address follow the description of the waiver granted in the accompanying list of waivers that have been granted in the third quarter of calendar year 2004.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers waivers of regulations granted by HUD from July 1, 2004, through September 30, 2004. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2004) before the next report is published, HUD will include any additional waivers granted for the third quarter as well as those that occur during the fourth quarter of calendar year 2004 (October 1, 2004 through December 31, 2004).

Accordingly, information about approved waiver requests pertaining to HUD regulations is provided in the Appendix that follows this notice.

Dated: December 28, 2004.
Kathleen D. Koch,
Deputy General Counsel.

Appendix—Listing of Waivers of Regulatory Requirements Granted by Offices of the Department of Housing and Urban Development July 1, 2004, Through September 30, 2004

Note to Reader: More information about the granting of these waivers, including a copy of the waiver request and approval, may be obtained by contacting the person whose name is listed as the contact person directly after each set of regulatory waivers granted.

The regulatory waivers granted appear in the following order:

I. Regulatory waivers granted by the Office of Community Planning and Development

II. Regulatory waivers granted by the Office of Housing

III. Regulatory waivers granted by the Office of Public and Indian Housing

I. Regulatory Waivers Granted by the Office of Community Planning and Development

For further information about the following regulatory waivers, please see the name of the contact person that immediately follows the description of the waiver granted.

• Regulation: 24 CFR 51.202 and 24 CFR 51.205.

Project/Activity: Tellurian UCAN, Inc. of Madison, Wisconsin, proposed to expand an existing mixed-use residential and office building. The existing building is a two-story brick structure with office space on the first floor and seven single room occupancy (SRO) units on the second floor.

Nature of Requirements: The proposed site is located approximately 450 feet from a 30,000-gallon, above ground liquid petroleum gas (LPG) storage tank used for fueling taxi fleet. HUD's Environmental Review regulations in 24 CFR part 51 indicates that acceptable separation distance (ASD) for a project in proximity to a 30,000 gallon LPG tank is 660 feet. Tellurian engaged the engineering services of a consulting firm to evaluate and recommend mitigation measures that would provide adequate blast protection for a building proposed within 450 feet of the 30,000 gallon LPG tank. The firm concluded that the required 0.5 psi value could be safely reduced to 0.14 psi by utilizing a brick veneer and concrete masonry unit (CMU) backup on the front of the proposed building.

Granted By: Roy A. Bernardi, Deputy Secretary.

Date Granted: September 28, 2004.

Reasons Waived: Section 51.202 of HUD's regulations provides that “the Department will not approve an application for assistance for a proposed project located at less than the acceptable separation distance from a hazard unless appropriate mitigating measures, as defined in § 51.205.” The waiver of this regulation was granted on the basis of the engineering recommendations of the firm for blast over pressure, by having the existing LPG tank constructed to meet the requirements of the National Fire Protection Association (NFPA 58-Gas Code Handbook) and the State of Wisconsin LPG Code, and by observing that the LPG tank is not in direct line of sight to the proposed structure.

Contact: Lisa Newman, Office of Field Management, Office of Community Planning and Development, Department of Housing and Urban Development, 451 Seventh Street, SW., Washington, DC 20410-7000, telephone (202) 708-2565.

• Regulations: 24 CFR 92.503(b), 24 CFR 92.252 and 24 CFR 92.254.

Project/Activity: The State of Oklahoma requested that HUD grant waivers requiring repayment of HOME funds in the event a property does not meet the HOME affordability requirements for the period specified.

Nature of Requirements: The Oklahoma Housing Finance Agency (OHFA) proposed to impose HOME requirements on a non-assisted unit for the remaining affordability period of the property that is out of compliance with the HOME final rule. Because the period of affordability established in 24 CFR 92.254 has not been met, OHFA would be required to repay the initial HOME investment amount to the HOME account from which it was drawn, pursuant to 24 CFR 92.503(b).

Granted By: Roy A. Bernardi, Deputy Secretary.

Date Granted: July 7, 2004.

Reason Waived: Oklahoma Housing Finance Agency requested to substitute the HOME assisted unit lost through the fire with the new unit of 1828 South 5th Street. According to the information provided by OHFA, the proposed substitute unit is an eligible property type as described in 92.254(a)(1), met the modest housing requirements at § 92.254(a)(2)(i), will be the principal residence as required by § 92.254(a)(3) and will meet the property standards required by § 92.251(a)(2). The new unit will also be required to remain affordable for the balance of the original five-year period of affordability per § 92.245(a)(4).

Contact: Lisa Newman, Office of Field Management, Office of Community Planning and Development, Department of Housing and Urban Development, 451 Seventh Street, SW, Washington, DC 20410-7000, telephone (202) 708-2565.

• Regulation: 24 CFR 92.503(b), 24 CFR 92.254, 24 CFR 92.503(b)(1), and 24 CFR 92.252

Project/Activity: The State of Kentucky Housing Corporation (KHC) requested waiver of the HOME Program of repayment requirement for foreclosed properties established at 24 CFR 92.503(b)(1).

Nature of Requirements: The Kentucky Housing Corporation follows the HOME policy guidance provided by the June 2003 HOMEfires regarding the repayment requirements for foreclosed HOME-assisted homebuyer properties that have not met the affordability requirements specified in § 92.254 of the HOME rule. June 2003 HOMEfires explains, if a participating jurisdiction was unaware that the design of its homebuyer program obligated it, in the event of foreclosure, to repay funds in excess of what would be available through the foreclosure, and the participating jurisdiction has since changed its program design to base recapture amounts on net proceeds, a waiver of the repayment requirement under original program design is possible.

Granted By: Roy A. Bernardi, Deputy Secretary.

Date Granted: July 7, 2004.

Reason Waived: The Kentucky Housing Corporation changed its recapture provisions for its homebuyer program. Permitting substitution of comparable units in lieu of repayment when a project fails to meet HOME requirements for the affordability period will maintain the number of affordable housing units available in the community. The proposed unit was determined an acceptable substitution for the HOME unit lost through the fire and subsequent sale of the original HOME-assisted unit. The unit is not a federally assisted unit, but will meet the HOME requirements for the balance of the period of affordability. The proposal will transfer the HOME restrictions from the original HOME-assisted unit to the substitute unit, fulfilling the original HOME requirements.

Contact: Lisa Newman, Office of Field Management, Office of Community Planning and Development, Department of Housing and Urban Development, 451 Seventh Street, SW, Washington, DC 20410-7000, telephone (202) 708-2565.

• Regulation: 24 CFR 570.208(a)(3) and 24 CFR 570.5.

Project/Activity: The City of Asheville, North Carolina, has requested the use of Community Development Block Grant (CDBG) funds to acquire and improve a seven-acre site on Brotherton Avenue for the construction of 32 units of co-housing as a mixed community.

Nature of Requirements: The regulations at 24 CFR 570.208(a)(3) require 51 percent of the units in a multi-unit structure must be occupied by low- and moderate-income households. Based on the proposed design, three units in each four-plex building and four units in each six-plex building, for a total of 22 of the 32 units, must be occupied by low- and moderate-income households. The regulations allow some flexibility for meeting this national objective when the CDBG assistance supports the new construction of non-elderly rental units and housing units for which funds are obligated during a program year in a Neighborhood Revitalization Strategy Area.

Granted By: Roy A. Bernardi, Deputy Secretary.

Date Granted: July 6, 2004.

Reason Waived: This waiver allowed the city to aggregate the units in the development, and this, in turn, will allow 56 percent of the units to be occupied by low- and moderate-income households. Further approval of the waiver resulted in the development of new affordable housing and increase homeownership for low- and moderate households.

Contact: Lisa Newman, Office of Field Management, Office of Community Planning and Development, Department of Housing and Urban Development, 451 Seventh Street, SW, Washington, DC 20410-7000, telephone (202) 708-2565.

II. Regulatory Waivers Granted by the Office of Housing

For further information about the following regulatory waivers, please see the name of the contact person that immediately follows the description of the waiver granted.

• Regulation: 24 CFR 200.40 (d)(1) and (h).

Project/Activity: The following projects requested waivers to the application fee required by 24 CFR 200.40 (d)(1) and the transfer fee required 24 CFR CFR 200.40 (h):

FHA No. | Project | State
12335118 | Mountain View Apartments | AZ
02336613 | Lena Park (Granite Package #7) | MA
11744034 | Rolling Meadows of Enid | OK
09435014 | Dakota Estates Retirement Center | ND
05135350 | Garrison Woods | VA
05335440 | Arcadia Village Apartments | NC
06435006 | Sunlight Manor Apartments | LA
07335416 | Gary NSA III Apartments | IN
07135469 | Englewood Eden Green | IL
07335255 | The Oaks Apartments III | IN
03444055 | Interfaith Heights | PA
11535159 | Donna Village Apartments | TX
05435494 | Standpoint Vista Apartments | SC
06444112 | Gulfway Terrace Apartments | LA
01257308 | Villa Alejandrina | NY
07335299 | Gardens of Greenbriar Apartments | IN
07335596 | Cambridge Estates Phase IV | IN
07335371 | Beacon Heights | IN
01735090 | Hill Central Community Cooperative | CT
11235330 | Cove Village Apartments | TX
08635179 | Margaret Robertson Apartments | TN
01232258 | Maplewood Apartments | NY
01257346 | Mother Zion Apartments | NY
05335319 | Alamance Plaza | NC
11335067 | Gholson Hotel | TX
07135568 | Austin Renaissance | IL
03444017 | Garden Court Apartments | PA
04744016 | Pinebrook Manor | MI
05635077 | Manati Plaza Apartments | PR
05335406 | Rochelle Manor Apartments | NC
06135382 | Capitol Towers | GA
12735359 | Broadway Plaza Apartments | WA
05635110 | San Cristobal Apartments | PR
11435322 | Colonial Park Apartments | TX
03535082 | Park Plaza Apartments | NJ
10911006 | Del Mar Apartments | WY
07135441 | Madison Terrace Apartments | IL
10935045 | Cheyenne North Apartments | WY
07135483 | Washington Scene Apartments | IL
07135436 | Roosevelt Independence | IL
06235209 | Cedars Green Apartments | AL
08435253 | Kings Cove Apartments | MO
04635170 | Hi-Land Terrace Apartments | OH
10135274 | California Park East | CO
06535351 | Canton Estates Apartments | MS
03335151 | Evergreen Arbors | PA
04235405 | West Park Senior Center | OH
06235283 | Normandale Apartments | AL
05938005 | Wellington Square | LA
05935181 | Bond House | LA
12735360 | New Central Hotel | WA
01435059 | Roosevelt Apartments | NY
05235367 | Windsor Gardens | MD
02335268 | Piedmont Brightside Apartments | MA
10935064 | Springhill III Apartments | WY
10935062 | Springhill I Apartments | WY
06694016 | Federal Apartments | FL
10935063 | Springhill II Apartments | WY
04335287 | Melanie Manor | OH
11344071 | Western Heights Apartments | TX
08535391 | College Hill Apartments | MO
02336612 | Washington Columbia Apartments | MA
08335176 | Cambridge Square Apartments | KY
04235402 | Brookside Village | OH
05635113 | Trujillo Alto Gardens | PR
07335290 | Mill Run Apartments | IN
06535362 | George E. Lewis Estates | MS
05635131 | Brisas De San Alfonso | PR
05635123 | Villa Machuelo | PR
05235362 | Upton Druid Apartments | MD
04335182 | The Orchards I | OH
04335162 | The Orchards II | OH
07335600 | Cloverdale Height Apartments II | IN
03135235 | Broadway Manor Apartments | NJ
12735346 | Jackson Apartments | WA
08535251 | Union Sarah Rehab SS II | MO
03435210 | Daniel Scott Commons | PA
07535313 | Renaissance Apartments | WI
06544042 | Northwood Village | MS
00035334 | Benning Heights | DC
10935006 | Sertoma Senior Citizens Housing, Inc. | WY
01257338 | Brownsville Gardens | NY
01335120 | Schuyler Court Apartments | NY
01332004 | Providence Hall | NY
01435002 | Metro Interfaith | NY
12135678 | Mercy Terrace | CA
08735141 | Ivy Avenue Apartments | TN
07335531 | River Run Apartments | IN
05935039 | Cooper Road Plaza Apartments | LA
07335241 | Fairington of Fort Wayne | IN
06144148 | Shy Manor Apartments | GA
06535040 | Eastgate Garden Apartments | MS
06144197 | Blakewood Apartments | GA
04735006 | Neighborhood Apartments | MI
05235350 | Barclay Greenmount | MD
06135312 | Oakwood Apartments | GA
03135244 | Hampshire House | NJ
08335012 | Highland Heights Apartments | KY
08344081 | Belmont Court Apartments | KY
10110557 | Birchwood Manor | CO
08335033 | Woodland Heights | KY
06144040 | Holsey Cobb Village Apartments | GA
04535004 | Abram-King Memorial Apartments | WV
07355120 | Eden Green Apartments | IN
03344088 | Grant Towers | PA
12135758 | La Serena Apartments | CA
06544802 | Madonna Manor | MS
12735200 | Lake Chelan Community Apartments | WA
05235312 | Cumberland Manor | MD
08344024 | Edgewood Village Apartments | KY
07344403 | Fowler Apartments | IN
04335289 | Beasley Mills Apartments | OH
07335591 | Jamestown Square of Washington | IN
07335224 | Cambridge Square of Bedford | IN
06244012 | Alta Vista Apartments | AL
04535159 | West View Manor | WV
04235403 | Highland Crest Apartments | OH
07344166 | Troy Manor Cooperative II | IN
07344167 | Troy Manor Cooperative III | IN
12135679 | Denair Manor Apartments | CA
04344061 | Rosa Parks Apartments | OH
09135016 | Townhouse Apartments | SD
06535091 | Southwest Village Apartments | MS
09135026 | Fairlane Apartments | SD
04292505 | Marshall Plaza II | OH
08635189 | Southfield Apartments | TN
07435229 | Oak Hill Manor | IA
12135737 | Flores Gardens Apartments | CA
07335229 | Cambridge Square of Marion | IN
07335459 | Gary NSA V | IN
12344027 | Broadway House | AZ
06435246 | Stonehenge Apartments | LA
05392503 | Park Heights Apartments | NC
00035427 | Cavalier Apartments | DC
09338006 | Glacier Manor | MT
01257216 | Malcolm X 11-Phase A Apartments | NY
07344175 | Vinton Woods Cooperative III | IN
06144105 | Cedar Avenue Apartments | GA
04535154 | Manor House Apartments | WV
11535163 | Alamo Village Apartments | TX
11535198 | Fifty Oaks Apartments | TX
11535338 | Fox Run Apartments | TX
06592501 | William H. Bell Apartments | MS
05935196 | Stone Vista Apartments | LA
05935168 | Pine Hill Estates | LA
11535245 | Castle Manor Apartments | TX
12144371 | Villa Fontana Apartments | CA
11744094 | Town and Country Apartments | OK
01332005 | Amsterdam Sr. Citizen Housing | NY
03435212 | Monte Vista Apartments | PA
06535082 | Edgewood Manor Apartments | MS
07335286 | Camelot Court of Paoli | IN
04535074 | Freedom Place I | WV
06535012 | Susie B. West Apartments | MS
02336614 | Field Corner Granite | MA
02335279 | Ashland Commons | MA
01257322 | Woodycrest Courts II | NY
06135031 | Eastgate Apartments | GA
04544014 | Vandalia Terrace Apartments | WV
01235541 | New Square Family Housing | NY
01257017 | Friendset Apartments | NY
07135254 | Ridgewood Towers Apartments | IL
07392002 | South Towne Square Apartments | IN
04535069 | Dunbar Towers | WV
12344044 | Hartford Apartments | AZ
04535018 | Calhoun Homes | WV
07435003 | Oakridge Neighborhood (DMACC) | IA
02336616 | Quincy Geneva—Granite #11B | MA
08635013 | East Gate Apartments | TN
06544052 | Broadway Estates | MS
07344071 | Garden Estates West | IN
10335020 | Valentine Apartments | NE
05392508 | Spring Valley Apartments | NC
01335128 | Fulton Mill Apartments | NY
11535162 | Rio Hondo Village | TX
10244092 | Concordia Apartments | KS
10235105 | Concordia II Apartments | KS
01444043 | Apple Blossom Acres | NY
08635149 | Algood Manor Apartments | TN
11344016 | Woodland Village Apartments | TX
06111135 | Wisdom Woods Apartments | GA
06535005 | Francis Street Apartments | MS
04535007 | Miracle Acres | WV
01444056 | Corning Mews Apartments | NY
07344119 | Gardenside Terrace Cooperative II | IN
07344118 | Gardenside Terrace Cooperative I | IN
06135536 | Amberwood Apartments | GA
06235323 | Claiborne Arms Apartments | AL
09344055 | Thompson Falls Lions Manor | MT
07135426 | Concord Commons Apartments | IL
05335009 | Zion Hills Apartments | NC
06744125 | Palm Avenue Baptist Apartments | FL
09335035 | Sunset Capital Apartments | MT
08611043 | Buena Vista Manor Apartments | TN
01257288 | McKinley Manor Apartments | NY
04335098 | Garden Manor Apartments | OH
08635015 | Haynes Garden Apartments | TN
08144038 | Tyson Park Apartments | TN
05294031 | York Park Apartments | MD
04444005 | Asbury Apartments | OH
04244054 | Channelwood Village (aka Callis Tower) | OH
09335092 | Crestwood Inn | MT
07335018 | Greenwood Apartments | IN
01435035 | Touraine Apartments | NY
05335047 | Stewart's Creek Apartments | NC
08635062 | Spring Haven Apartments | TN
08344019 | Heather Hills II Apts (aka Danville II) | KY
08335344 | Countryview Apartments | KY
08335222 | Holley Manor Annex Apartments | KY
04535078 | Montani Towers | WV
10235111 | Greenway Park Apartments | KS
11435045 | Pineview Apartments | TX
11435007 | Louis Manor Apartments | TX
04635046 | Parkview Arms I | OH
04255046 | Marshall Plaza I | OH
04244043 | Moody Manor | OH
11735033 | Columbia Square Apartments | OK

Nature of Requirement: Section 200.40 establishes fees to be applied to M2M transactions with FHA insured mortgages. The intent of this provision is to provide an extra incentive to encourage owner cooperation with the process in a timely manner.

Granted By: John C. Weicher, Assistant Secretary for Housing-Federal Housing Commissioner.

Date Granted: September 22, 2004.

Reason Waived: The projects listed above were FHA insured and incentives were necessary to encourage cooperation.

Contact: Norman Dailey, Office of Affordable Housing Preservation, Department of Housing and Urban Development, 451 Seventh Street, SW, Washington, DC 20410, telephone (202) 708-0614.

• Regulation: 24 CFR 290.30(a).

Project/Activity: 658 Montgomery Street, Project Number: 012-35199.

Nature of Requirement: Section 290.30(a) requires that HUD-held multifamily mortgages be sold on a competitive basis, except for certain “negotiated” sales to state or local governments.

Granted by: John C. Weicher, Assistant Secretary for Housing-Federal Housing Commissioner.

Date Granted: July 30, 2004.

Reason Waived: The project owner requested prepayment of the mortgage. However, in lieu of paying off the mortgage directly, the borrower requested that the HUD loan secured by the project be assigned to Washington Mutual Bank for mortgage tax savings purposes. Washington Mutual Bank agreed to this assignment and to pay the full amount of the HUD loan.

Contact: Beverly J. Miller, Director, Office of Asset Management, Department of Housing and Urban Development, 451 Seventh Street, SW, Washington, DC 20410-7000, telephone (202) 708-3730.

• Regulation: 24 CFR 290.30(a).

Project/Activity: 675 Empire Boulevard, Project Number: 012-35200.

Nature of Requirement: Section 290.30(a) requires that HUD-held multifamily mortgages be sold on a competitive basis, except for certain “negotiated” sales to state or local governments.

Granted by: John C. Weicher, Assistant Secretary for Housing-Federal Housing Commissioner.

Date Granted: July 30, 2004.

Reason Waived: The project owner requested prepayment of the mortgage. However, in lieu of paying off the mortgage directly, the borrower requested that the HUD loan secured by the project be assigned to Washington Mutual Bank for mortgage tax savings purposes. Washington Mutual Bank agreed to this assignment and to pay the full amount of the HUD loan.

Contact: Beverly J. Miller, Director, Office of Asset Management, Department of Housing and Urban Development, 451 Seventh Street, SW, Washington, DC 20410-7000, telephone (202) 708-3730.

• Regulation: 24 CFR 290.30(a).

Project/Activity: 349 Crown Street, Project Number: 012-35201.

Nature of Requirement: Section 290.30(a) requires that HUD-held multifamily mortgages be sold on a competitive basis, except for certain “negotiated” sales to state or local governments.

Granted by: John C. Weicher, Assistant Secretary for Housing-Federal Housing Commissioner.

Date Granted: July 30, 2004.

Reason Waived: The project owner requested prepayment of the mortgage. However, in lieu of paying off the mortgage directly, the borrower requested that the HUD loan secured by the project be assigned to Washington Mutual Bank for mortgage tax savings purposes. Washington Mutual Bank agreed to this assignment and to pay the full amount of the HUD loan.

Contact: Beverly J. Miller, Director, Office of Asset Management, Department of Housing and Urban Development, 451 Seventh Street, SW, Washington, DC 20410-7000, telephone (202) 708-3730.

• Regulation: 24 CFR 290.30(a).

Project/Activity: Hilltop Gardens, Project Number 051-EH002.

Nature of Requirement: Section 290.30(a) requires that HUD-held multifamily mortgages be sold on a competitive basis, except for certain “negotiated” sales to state or local governments.

Granted by: John C. Weicher, Assistant Secretary for Housing-Federal Housing Commissioner.

Date Granted: September 13, 2004.

Reason Waived: The project owner requested prepayment of the mortgage. However, in lieu of HUD entering into a non-competitive loan sale arrangement, the non-profit sponsor requested a negotiated sale for a price equal to the outstanding mortgage balance. The negotiated sale was determined more beneficial to the community than a competitive note sale to the highest bidder because the sponsor's purchase of the note ensures a local, continuing involvement in this facility.

Contact: Beverly J. Miller, Director, Office of Asset Management, Department of Housing and Urban Development, 451 Seventh Street, SW, Washington, DC 20410-7000, telephone (202) 708-3730.

• Regulation: 24 CFR 291.210(a).

Project/Activity: Single Family Property Disposition.

Nature of Requirement: Section 291.210(a) permits direct sales without mortgage insurance to governmental entities and private nonprofit organizations at deep discounts off the list price of properties sold for use in HUD and local housing or homeless programs. Section 291.210(c) permits HUD to dispose of HUD-owned single family properties through direct sales to other individuals or entities that do not meet any of the categories specified in this section, if a finding is made by the Assistant Secretary for Housing-Federal Housing Commissioner, or his or her designee, in writing, that such sales would further the goals of the National Housing Act (12 U.S.C. 1701 et seq.) and would be in the best interest of the Secretary.

Granted by: John C. Weicher, Assistant Secretary for Housing-Federal Housing Commissioner.

Date Granted: September 29, 2004.

Reason Waived: A waiver of the requirements of 24 CFR 291.210 (a) was needed in order to provide authority for governmental entities, school districts and private nonprofit organizations to purchase properties offered with mortgage insurance on a direct sales basis and to provide discounts of 50 percent for use in the Teacher Next Door Initiative. Based on HUD's experience with REO sales, it would not be detrimental to the insurance fund to permit governmental entities, school districts, and private nonprofit organizations to purchase properties offered with mortgage insurance on a direct sales basis or to provide discounts of 50 percent on properties sold for use in the Teacher Next Door Initiative. These sales will be upon such terms and conditions as the Secretary may prescribe. This finding applies to the direct sale of HUD-owned properties to teachers in designated revitalization areas. The Teacher Next Door Initiative gives teachers the opportunity to live and work in communities where they are most needed. The integration of teachers, who are role models and mentors, into a community enhances the community's quality of life. To date, the program has enabled the Department to dispose of 3,700 properties from its inventory, while providing homeownership to an equivalent number of qualified buyers and supporting residency of employed, professional teachers in revitalization areas.

Contact: Wanda Sampedro, Director, Asset Management and Disposition Division, Department of Housing and Urban Development, 451 Seventh Street, SW., Washington, DC 20410-7000, telephone (202) 708-1672.

• Regulation: 24 CFR 401.461.

Project/Activity: The following projects requested waivers to the simple interest requirement on the second mortgage to allow compound interest at the applicable federal rate.

FHA No. | Project | State
07235081 | Bissel Apartments | IL

Nature of Requirement: Section 401.461 requires that the second mortgages have an interest rate not more than the applicable federal rate. Section 401.461 (b)(1) states that interest will accrue but not compound. The intent of simple interest instead of compound interest is to limit the size of the second mortgage accruals to increase the likelihood of long-term financial and physical integrity.

Granted By: John C. Weicher, Assistant Secretary for Housing-Federal Housing Commissioner.

Date Granted: August 17,2004.

Reason Waived: This regulatory restriction would be construed as a form of federal subsidy, thereby creating a loss of tax credit equity. This loss would adversely affect the ability to close the Restructuring Plan and could cause the loss or deterioration of these affordable housing projects. Therefore, compound interest was necessary for the owner to obtain Low Income Housing Tax Credits under favorable terms and in order to maximize the savings to the Federal Government.

Contact: Dennis Manning, Office of Affordable Housing Preservation, Department of Housing and Urban Development, 451 Seventh Street, SW., Washington, DC 20410, telephone (202) 708-0614.

• Regulation: 24 CFR 401.461.

Project/Activity: The following projects requested waivers to the simple interest requirement on the second mortgage to allow compound interest at the applicable federal rate.

FHA No. | Project | State
11235331 | Village of Kaufman | TX

Nature of Requirement: Section 401.461 requires that the second mortgages have an interest rate not more than the applicable federal rate. Section 401.461 (b)(1) states that interest will accrue but not compound. The intent of simple interest instead of compound interest is to limit the size of the second mortgage accruals to increase the likelihood of long-term financial and physical integrity.

Granted By: John C. Weicher, Assistant Secretary for Housing-Federal Housing Commissioner.

Date Granted: September 22, 2004.

Reason Waived: This regulatory restriction would be construed as a form of federal subsidy, thereby creating a loss of tax credit equity. This loss would adversely affect the ability to close the Restructuring Plan and could cause the loss or deterioration of these affordable housing projects. Therefore, compound interest was necessary for the owner to obtain Low Income Housing Tax Credits under favorable terms and in order to maximize the savings to the Federal Government.

Contact: Dennis Manning, Office of Affordable Housing Preservation, Department of Housing and Urban Development, 451 Seventh Street, SW., Washington, DC 20410, telephone (202) 708-0614.

• Regulation: 24 CFR 401.600.

Project/Activity: The following projects requested waivers to the 12-month limit at above-market rents.

FHA number | Project | State
07435185 | Adams Court | IA
01257298 | Alexander Coprew Apartments | NY
3135237 | Arlington Arms Apartments | NJ
07135568 | Austin Renaissance | IL
13344039 | Childress Manor | TX
01435051 | Colt Block Apartments | NY
07135481 | Corcoran Place Apartments | IL
12335128 | Fillmore I | AZ
10535072 | Glenbrook Apartments | UT
05335424 | South Village Apartments | NC
01635074 | Villa Excelsior | RI
01335113 | Woodburn Court II | NY

Nature of Requirement: Section 401.600 requires that projects be marked down to market rents within 12 months of their first expiration date after January 1, 1998. The intent of this provision is to ensure timely processing of requests for restructuring and that the properties will not default on their FHA insured mortgages during the restructuring process.

Granted By: John C. Weicher, Assistant Secretary for Housing-Federal Housing Commissioner.

Date Granted: July 12, 2004.

Reason Waived: The projects listed above were not assigned to the participating administrative entities (PAEs) in a timely manner and therefore the restructuring analysis was unavoidably delayed due to no fault of the owner.

Contact: Norman Dailey, Office of Affordable Housing Preservation, Department of Housing and Urban Development, 451 7th Street, SW., Washington, DC 20410, telephone (202) 708-0614.

• Regulation: 24 CFR 401.600.

Project/Activity: The following projects requested waivers to the 12-month limit at above-market rents (24 CFR 401.600):

FHA No. | Project | State
06135370 | Georgian Woods Apartments | GA
01435062 | East Court V | NY
07135469 | Englewood Eden Green | IL
07135455 | Loma Linda Apartments | IL
11435350 | Bay Terrace Apartments | TX
05335319 | Alamance Plaza | NC
05335440 | Arcadia Village Apartments | NC
05335387 | Northwood Apartments | NC
06535363 | Decatur Meadows Apartments | MS
06335206 | Harbour Place Apartments | FL
06735272 | Hudson Estates | FL
10235180 | Brookridge Plaza Apartments | KS
10235178 | Jewel Crest | KS
10235139 | Mulberry Court Apartments | KS
12235570 | Plummer Village | CA
01257278 | Elliot Graham Housing | NY
01235527 | Highland Falls Housing | NY
01232237 | Southport Mews Apartments | NY
03435209 | Dorado Village | PA
03435167 | Freeland Elderly Housing | PA

Nature of Requirement: Section 401.600 requires that projects be marked down to market rents within 12 months of their first expiration date after January 1, 1998. The intent of this provision is to ensure timely processing of requests for restructuring and that the properties will not default on their FHA insured mortgages during the restructuring process.

Granted By: John C. Weicher, Assistant Secretary for Housing-Federal Housing Commissioner.

Date Granted: August 16, 2004.

Reason Waived: The projects listed above were not assigned to the participating administrative entities (PAEs) in a timely manner or the restructuring analysis was unavoidably delayed due to no fault of the owner.

Contact: Norman Dailey, Office of Affordable Housing Preservation, Department of Housing and Urban Development, 451 7th Street, SW., Washington, DC 20410; telephone (202) 708-0614, ext. 8371.

• Regulation: 24 CFR 401.600.

Project/Activity: The following projects requested waivers to the 12-month limit at above-market rents (24 CFR 401.600):

FHA number | Project | State
06235318 | Russel Erskine Apartments | AL
10135362 | Castle Creek Commons East | CO
00035309 | Southview Apartments I (aka Southview West) | DC
06135387 | Bridge Creek Apartments | GA
07435184 | Greenway of Burlington | IA
07135483 | Washington Scene Apartments | IL
08535312 | Maplewood Loop Apartments | MO
06535222 | Highland View Apartments | MS
04335284 | Melford Village | OH
04644100 | Miami Manor | OH
03435214 | Chester Apartments | PA
03435216 | Coplay Apts./Eagle Apts. | PA

Nature of Requirement: Section 401.600 requires that projects be marked down to market rents within 12 months of their first expiration date after January 1, 1998. The intent of this provision is to ensure timely processing of requests for restructuring and that the properties will not default on their FHA insured mortgages during the restructuring process.

Granted By: John C. Weicher, Assistant Secretary for Housing-Federal Housing Commissioner.

Date Granted: September 16, 2004.

Reason Waived: The projects listed above were not assigned to the participating administrative entities (PAEs) in a timely manner or the restructuring analysis was unavoidably delayed due to no fault of the owner.

Contact: Norman Dailey, Office of Affordable Housing Preservation, Department of Housing and Urban Development, 451 Seventh Street, SW., Washington, DC 20410, telephone (202) 708-0614.

• Regulation: 24 CFR 891.100(d).

Project/Activity: L.C. Hotchkiss Terrace, Clovis, CA, Project Number: 121-EE163/CA39-S021-008.

Nature of Requirement: Section 891.100(d) prohibits amendment of the amount of the approved capital advance funds prior to initial closing.

Granted by: John C. Weicher, Assistant Secretary for Housing-Federal Housing Commissioner.

Date Granted: July 2, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Paumanack Village VI, Melville, NY, Project Number: 012-EE322/NY36-S021-003.

Nature of Requirement: Section 891.100(d) prohibits amendment of the amount of the approved capital advance funds prior to initial closing.

Granted by: John C. Weicher, Assistant Secretary for Housing-Federal Housing Commissioner.

Date Granted: July 7, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Fayette Hills Unity, Oakhill, WV, Project Number: 045-HD033/WV15-Q011-001.

Nature of Requirement: Section 891.100(d) prohibits amendment of the amount of the approved capital advance funds prior to initial closing.

Granted by: John C. Weicher, Assistant Secretary for Housing-Federal Housing Commissioner.

Date Granted: July 12, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Carnation Housing for the Elderly, Orchard Park, NY, Project Number: 014-EE217/NY06-S021-005.

Nature of Requirement: Section 891.100(d) prohibits amendment of the amount of the approved capital advance funds prior to initial closing.

Granted by: John C. Weicher, Assistant Secretary for Housing-Federal Housing Commissioner.

Date Granted: July 12, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Les Petites Maison, Lafayette, LA, Project Number: 064-HD072/LA48-Q021-005.

Nature of Requirement: Section 891.100(d) prohibits amendment of the amount of the approved capital advance funds prior to initial closing.

Granted by: John C. Weicher, Assistant Secretary for Housing-Federal Housing Commissioner.

Date Granted: July 12, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Fairham Homes, Middletown, OH, Project Number: 046-HD025/OH10-Q011-002.

Nature of Requirement: Section 891.100(d) prohibits amendment of the amount of the approved capital advance funds prior to initial closing.

Granted by: John C. Weicher, Assistant Secretary for Housing-Federal Housing Commissioner.

Date Granted: July 12, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. Anne Residence, Beardstown, IL, Project Number: 072-EE148/IL06-S021-012.

Nature of Requirement: Section 891.100(d) prohibits amendment of the amount of the approved capital advance funds prior to initial closing.

Granted by: John C. Weicher, Assistant Secretary for Housing-Federal Housing Commissioner.

Date Granted: July 12, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: West Brighton Seniors, Brighton, NY, Project Number: 014-EE206/NY06-S011-005.

Nature of Requirement: Section 891.100(d) prohibits amendment of the amount of the approved capital advance funds prior to initial closing.

Granted by: John C. Weicher, Assistant Secretary for Housing-Federal Housing Commissioner.

Date Granted: July 14, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Williams Street Apartments, Jefferson City, MO, Project Number: 085-HD036/MO36-Q002-003.

Nature of Requirement: Section 891.100(d) prohibits amendment of the amount of the approved capital advance funds prior to initial closing.

Granted by: John C. Weicher, Assistant Secretary for Housing-Federal Housing Commissioner.

Date Granted: July 15, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Michigan/Jefferson Housing, Galesburg, IL, Project Number: 072-HD121/IL06-Q021-004.

Nature of Requirement: Section 891.100(d) prohibits amendment of the amount of the approved capital advance funds prior to initial closing.

Granted by: John C. Weicher, Assistant Secretary for Housing-Federal Housing Commissioner.

Date Granted: July 15, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Providence St. Elizabeth House, Seattle, WA, Project Number: 127-EE032/WA19-S011-003.

Nature of Requirement: Section 891.100(d) prohibits amendment of the amount of the approved capital advance funds prior to initial closing.

Granted by: John C. Weicher, Assistant Secretary for Housing-Federal Housing Commissioner.

Date Granted: July 21, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Highland County VOA Living Center, Sebring, FL, Project Number: 067-HD091/FL29-Q021-007.

Nature of Requirement: Section 891.100(d) prohibits amendment of the amount of the approved capital advance funds prior to initial closing.

Granted by: John C. Weicher, Assistant Secretary for Housing-Federal Housing Commissioner.

Date Granted: July 22, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Arcadia Commons, Albany, GA, Project Number: 061-EE110/GA06-S021-002.

Nature of Requirement: Section 891.100(d) prohibits amendment of the amount of the approved capital advance funds prior to initial closing.

Granted by: John C. Weicher, Assistant Secretary for Housing-Federal Housing Commissioner.

Date Granted: July 22, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Diggs Drive Group Home, Hampton, VA, Project Number: 051-HD115/VA36-Q021-006.

Nature of Requirement: Section 891.100(d) prohibits amendment of the amount of the approved capital advance funds prior to initial closing.

Granted by: John C. Weicher, Assistant Secretary for Housing-Federal Housing Commissioner.

Date Granted: July 27, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Charles A. Gonzalez Senior Community Residence, San Antonio, TX, Project Number: 115-EE066/TX59-S021-002.

Nature of Requirement: Section 891.100(d) prohibits amendment of the amount of the approved capital advance funds prior to initial closing.

Granted by: John C. Weicher, Assistant Secretary for Housing-Federal Housing Commissioner.

Date Granted: July 29, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: John Marvin Tower, Augusta, ME, Project Number: 024-EE067/ME36-S021-002.

Nature of Requirement: Section 891.100(d) prohibits amendment of the amount of the approved capital advance funds prior to initial closing.

Granted by: John C. Weicher, Assistant Secretary for Housing-Federal Housing Commissioner.

Date Granted: July 29, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Christian Life Retirement Center V, North Aurora, IL, Project Number: 071-EE165/IL06-S011-002.

Nature of Requirement: Section 891.100(d) prohibits amendment of the amount of the approved capital advance funds prior to initial closing.

Granted by: John C. Weicher, Assistant Secretary for Housing-Federal Housing Commissioner.

Date Granted: August 5, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Pathways, Inc., Greenwich, CT, Project Number: 017-HD022/CT26-Q981-001.

Nature of Requirement: Section 891.100(d) prohibits amendment of the amount of the approved capital advance funds prior to initial closing.

Granted by: John C. Weicher, Assistant Secretary for Housing-Federal Housing Commissioner.

Date Granted: August 5, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Winchester Senior Housing, Elko, NV, Project Number: 125-EE118/NV25-S011-001.

Nature of Requirement: Section 891.100(d) prohibits amendment of the amount of the approved capital advance funds prior to initial closing.

Granted by: John C. Weicher, Assistant Secretary for Housing-Federal Housing Commissioner.

Date Granted: August 6, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Catholic Charities Senior Housing at Woodlawn, Baltimore, MD, Project Number: 052-EE051/MD06-S031-002.

Nature of Requirement: Section 891.100(d) prohibits amendment of the amount of the approved capital advance funds prior to initial closing.

Granted by: John C. Weicher, Assistant Secretary for Housing-Federal Housing Commissioner.

Date Granted: August 18, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Brook Street Group Home, Ilion, NY, Project Number: 014-HD110/NY06-Q021-005.

Nature of Requirement: Section 891.100(d) prohibits amendment of the amount of the approved capital advance funds prior to initial closing.

Granted by: John C. Weicher, Assistant Secretary for Housing-Federal Housing Commissioner.

Date Granted: August 18, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Sawyer Street House, South Portland, ME, Project Number: 024-HD040/ME36-Q021-002.

Nature of Requirement: Section 891.100(d) prohibits amendment of the amount of the approved capital advance funds prior to initial closing.

Granted by: John C. Weicher, Assistant Secretary for Housing-Federal Housing Commissioner.

Date Granted: August 19, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Peggy Alsup Arbors, Nashville, TN, Project Number: 086-EE043/TN43-S021-001.

Nature of Requirement: Section 891.100(d) prohibits amendment of the amount of the approved capital advance funds prior to initial closing.

Granted by: John C. Weicher, Assistant Secretary for Housing-Federal Housing Commissioner.

Date Granted: August 25, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Beach Street House, Saco, ME, Project Number: 024-HD039/ME36-Q021-001.

Nature of Requirement: Section 891.100(d) prohibits amendment of the amount of the approved capital advance funds prior to initial closing.

Granted by: John C. Weicher, Assistant Secretary for Housing-Federal Housing Commissioner.

Date Granted: August 25, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: 15th Avenue Baptist Village Manor, Nashville, TN, Project Number: 086-Ee044/TN43-S021-002.

Nature of Requirement: Section 891.100(d) prohibits amendment of the amount of the approved capital advance funds prior to initial closing.

Granted by: John C. Weicher, Assistant Secretary for Housing-Federal Housing Commissioner.

Date Granted: August 25, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Germantown Park, Germantown, OH, Project Number: 046-EE069/OH10-S031-003.

Nature of Requirement: Section 891.100(d) prohibits amendment of the amount of the approved capital advance funds prior to initial closing.

Granted by: John C. Weicher, Assistant Secretary for Housing-Federal Housing Commissioner.

Date Granted: August 25, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Riverside Park, Riverside, OH, Project Number: 046-EE070/OH10-S031-004.

Nature of Requirement: Section 891.100(d) prohibits amendment of the amount of the approved capital advance funds prior to initial closing.

Granted by: John C. Weicher, Assistant Secretary for Housing-Federal Housing Commissioner.

Date Granted: August 25, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Legion Woods, New Haven, CT, Project Number: 017-HD028/CT26-Q001-004.

Nature of Requirement: Section 891.100(d) prohibits amendment of the amount of the approved capital advance funds prior to initial closing.

Granted by: John C. Weicher, Assistant Secretary for Housing-Federal Housing Commissioner.

Date Granted: August 27, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Delano Commons, Delano, MN, Project Number: 092-EE093/MN46-S031-005.

Nature of Requirement: Section 891.100(d) prohibits amendment of the amount of the approved capital advance funds prior to initial closing.

Granted by: John C. Weicher, Assistant Secretary for Housing-Federal Housing Commissioner.

Date Granted: August 30, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Bausman Street Independent Living, Pittsburgh, PA, Project Number: 033-HD078/PA28-Q021-006.

Nature of Requirement: Section 891.100(d) prohibits amendment of the amount of the approved capital advance funds prior to initial closing.

Granted by: John C. Weicher, Assistant Secretary for Housing-Federal Housing Commissioner.

Date Granted: August 31, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Venture 2002 Development, New York City, NY, Project Number: 012-HD112/NY36-Q021-003.

Nature of Requirement: Section 891.100(d) prohibits amendment of the amount of the approved capital advance funds prior to initial closing.

Granted by: John C. Weicher, Assistant Secretary for Housing-Federal Housing Commissioner.

Date Granted: August 31, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: East Bay Mental Health, East Providence, RI, Project Number: 016-HD033/RI43-Q001-003.

Nature of Requirement: Section 891.100(d) prohibits amendment of the amount of the approved capital advance funds prior to initial closing.

Granted by: John C. Weicher, Assistant Secretary for Housing-Federal Housing Commissioner.

Date Granted: September 3, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Hunterdon Consumer Home, East Amwell, NJ, Project Number: 031-HD121/NJ39-Q001-012.

Nature of Requirement: Section 891.100(d) prohibits amendment of the amount of the approved capital advance funds prior to initial closing.

Granted by: John C. Weicher, Assistant Secretary for Housing-Federal Housing Commissioner.

Date Granted: September 3, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Shenandoah Apartments, Lafayette, TN, Project Number: 086-EE050/TN43-S031-004.

Nature of Requirement: Section 891.100(d) prohibits amendment of the amount of the approved capital advance funds prior to initial closing.

Granted by: John C. Weicher, Assistant Secretary for Housing-Federal Housing Commissioner.

Date Granted: September 9, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Portland Habilitation Center, Portland, OR, Project Number: 126-HD037/OR16-Q-021-005.

Nature of Requirement: Section 891.100(d) prohibits amendment of the amount of the approved capital advance funds prior to initial closing.

Granted by: John C. Weicher, Assistant Secretary for Housing-Federal Housing Commissioner.

Date Granted: September 9, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Delran Consumer Home, Delran, NJ, Project Number: 035-HD046/NJ39-Q001-015.

Nature of Requirement: Section 891.100(d) prohibits amendment of the amount of the approved capital advance funds prior to initial closing.

Granted by: John C. Weicher, Assistant Secretary for Housing-Federal Housing Commissioner.

Date Granted: September 9, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: D'Youville Senior Living, Lowell, MA, Project Number: 023-EE155/MA06-S021-006.

Nature of Requirement: Section 891.100(d) prohibits amendment of the amount of the approved capital advance funds prior to initial closing.

Granted by: John C. Weicher, Assistant Secretary for Housing-Federal Housing Commissioner.

Date Granted: September 9, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Community Hope VII Consumer Home, Sussex, NJ, Project Number: 031-HD130/NJ39-Q011-009.

Nature of Requirement: Section 891.100(d) prohibits amendment of the amount of the approved capital advance funds prior to initial closing.

Granted by: John C. Weicher, Assistant Secretary for Housing-Federal Housing Commissioner.

Date Granted: September 9, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Saint Mark's Villa II, Jackson, MS, Project Number: 065-EE037/MS26-S021-001.

Nature of Requirement: Section 891.100(d) prohibits amendment of the amount of the approved capital advance funds prior to initial closing.

Granted by: John C. Weicher, Assistant Secretary for Housing-Federal Housing Commissioner.

Date Granted: September 9, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Rosewood Apartments, Kansas City, MO, Project Number: 084-HD040/MO16-Q021-001.

Nature of Requirement: Section 891.100(d) prohibits amendment of the amount of the approved capital advance funds prior to initial closing.

Granted by: John C. Weicher, Assistant Secretary for Housing-Federal Housing Commissioner.

Date Granted: September 9, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Faith Village, Houston, TX, Project Number: 114-EE096/TX24-S021-001.

Nature of Requirement: Section 891.100(d) prohibits amendment of the amount of the approved capital advance funds prior to initial closing.

Granted by: John C. Weicher, Assistant Secretary for Housing-Federal Housing Commissioner.

Date Granted: September 9, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. Jude Apartments II, Gates, NY, Project Number: 014-EE216/NY06-S021-004.

Nature of Requirement: Section 891.100(d) prohibits amendment of the amount of the approved capital advance funds prior to initial closing.

Granted by: John C. Weicher, Assistant Secretary for Housing-Federal Housing Commissioner.

Date Granted: September 9, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: La Casa, North Providence, RI, Project Number: 016-EE035/RI43-S001-002.

Nature of Requirement: Section 891.100(d) prohibits amendment of the amount of the approved capital advance funds prior to initial closing.

Granted by: John C. Weicher, Assistant Secretary for Housing-Federal Housing Commissioner.

Date Granted: September 12, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Titus House, Erie, PA, Project Number: 033-HD074/OA28-Q021-002.

Nature of Requirement: Section 891.100(d) prohibits amendment of the amount of the approved capital advance funds prior to initial closing.

Granted by: John C. Weicher, Assistant Secretary for Housing-Federal Housing Commissioner.

Date Granted: September 12, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Casa del Rio Grande, Del Norte, CO, Project Number: 101-EE055/CO099-S021-002.

Nature of Requirement: Section 891.100(d) prohibits amendment of the amount of the approved capital advance funds prior to initial closing.

Granted by: John C. Weicher, Assistant Secretary for Housing-Federal Housing Commissioner.

Date Granted: September 16, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Simpson Mid-Town, Philadelphia, PA, Project Number: 034-EE107/PA26-S001-007.

Nature of Requirement: Section 891.100(d) prohibits amendment of the amount of the approved capital advance funds prior to initial closing.

Granted by: John C. Weicher, Assistant Secretary for Housing-Federal Housing Commissioner.

Date Granted: September 17, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: New Courtland Section 202, Philadelphia, PA, Project Number: 034-EE119/PA26-S011-009.

Nature of Requirement: Section 891.100(d) prohibits amendment of the amount of the approved capital advance funds prior to initial closing.

Granted by: John C. Weicher, Assistant Secretary for Housing-Federal Housing Commissioner.

Date Granted: September 20, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Independence Village, Huntsville,TX, Project Number: 114-HD024/TX24-Q021-003.

Nature of Requirement: Section 891.100(d) prohibits amendment of the amount of the approved capital advance funds prior to initial closing.

Granted by: John C. Weicher, Assistant Secretary for Housing-Federal Housing Commissioner.

Date Granted: September 22, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Independence Hill, Moscow, ID, Project Number: 124-HD011/ID16-Q021-001.

Nature of Requirement: Section 891.100(d) prohibits amendment of the amount of the approved capital advance funds prior to initial closing.

Granted by: John C. Weicher, Assistant Secretary for Housing-Federal Housing Commissioner.

Date Granted: September 22, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Billings VOA Elderly Housing, Billings, MT, Project Number: 093-EE013/MT99-S021-003.

Nature of Requirement: Section 891.100(d) prohibits amendment of the amount of the approved capital advance funds prior to initial closing.

Granted by: John C. Weicher, Assistant Secretary for Housing-Federal Housing Commissioner.

Date Granted: September 22, 2004.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.130.

Project/Activity: Victory Gardens, New Haven, CT, Project Number: 017-EE066/CT26-S011-002.

Nature of Requirement: Section 891.130(b) prohibits an identify of interest between the sponsor or owner (or borrower, as applicable) and any development team member or between development team members until three years after final closing (for conflicts of interest) and two years after final closing (for identities of interest).

Granted by: John C. Weicher, Assistant Secretary for Housing-Federal Housing Commissioner.

Date Granted: August 2, 2004.

Reason Waived: Funds made from the sale of the parcel of land were limited to the actual acquisition cost incurred by the Housing Authority of the City of New Haven (NHHA) affiliate and were a minimal amount in comparison to the appraised value of the parcel. Also, NHHA and the City of New Haven contributed substantial funds to the project.

Contact: Willie Spearmon, Director, Office of Housing Assistance and Grant Administration, Department of Housing and Urban Development, 451 Seventh Street, SW., Washington, DC 20410-8000, telephone (202) 708-3000.

• Regulation: 24 CFR 891.130(b).

Project/Activity: New Stuyahok Senior Apartments, New Stuyahok, AK, Project Number: 176-EE026/AK06-S021-001.

Nature of Requirement: Section 891.130(b) prohibits an identify of interest between the sponsor or owner (or borrower, as applicable) and any development team member or between development team members until two years after final closing.

Granted by: John C. Weicher, Assistant Secretary for Housing-Federal Housing Commissioner.

Date Granted: July 16, 2004.

Reason Waived: The Housing Authority is the only agency in the remote Alaska Village capable of managing the project, and it received no benefit from the donation of the land.

Contact: Willie Spearmon, Director, Office of Housing Assistance and Grant Administration, Department of Housing and Urban Development, 451 Seventh Street, SW., Washington, DC 20410-8000, telephone (202) 708-3000.

• Regulation: 24 CFR 891.130(b).

Project/Activity: Luther House III of Jennersville, West Grove, PA, Project Number: 034-EE130/PA26-S032-002.

Nature of Requirement: Section 891.130(b) prohibits an identify of interest between the sponsor or owner (or borrower, as applicable) and any development team member or between development team members until two years after final closing.

Granted by: John C. Weicher, Assistant Secretary for Housing-Federal Housing Commissioner.

Date Granted: August 25, 2004.

Reason Waived: The sponsor located a third-party architectural firm to conduct all supervision inspections during construction as well as to buy the rights of the plans from the previous architect.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: River View Gardens, New York—Queens, NY, Project Number: 012-EE195/NY36-S961-013.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: July 28, 2004.

Reason Waived: The project is economically designed and comparable to similar projects in the area, and the sponsor/owner exhausted all efforts to obtain additional funding from other sources. Also, additional time was needed to issue the firm commitment application.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Victory Heights, Washington, DC, Project Number: 000-EE058/DC39-S021-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: August 25, 2004.

Reason Waived: The project is economically designed and comparable to similar projects in the area, and the sponsor/owner exhausted all efforts to obtain additional funding from other sources. Also, additional time was needed to secure funding from the local government.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Encore West Residence, New York, NY, Project Number: 012-EE286/NY36-S0010001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: August 27, 2004.

Reason Waived: The project is economically designed and comparable to similar projects in the area, and the sponsor/owner exhausted all efforts to obtain additional funding from other sources. Also, additional time was needed to issue the firm commitment application.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Calloway Street One, Salisbury, MD, Project Number: 052-EE042/MD06-S011-005.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: August 31, 2004.

Reason Waived: The project is economically designed and comparable to similar projects in the area, and the sponsor/owner exhausted all efforts to obtain additional funding from other sources. Also, additional time was needed to issue the firm commitment application.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: North End New Bedford Housing for the Elderly, New Bedford, MA, Project Number: 023-EE129/MA06-S011-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: September 9, 2004.

Reason Waived: The project is economically designed and comparable to similar projects in the area, and the sponsor/owner exhausted all efforts to obtain additional funding from other sources. Also, additional time was needed to finalize the initial closing package.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: NCR of Memphis, Memphis, TN, Project Number: 081-EE033/TN40-S011-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: September 9, 2004.

Reason Waived: The project is economically designed and comparable to similar projects in the area, and the sponsor/owner exhausted all efforts to obtain additional funding from other sources. Also, additional time was needed to process the request for additonal funding and to modify the construction documents.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Wisconsin Street Project, Casper, WY, Project Number: 109-EE006/WY99-S011-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: September 16, 2004.

Reason Waived: The project is economically designed and comparable to similar projects in the area, and the sponsor/owner exhausted all efforts to obtain additional funding from other sources. Also, additional time was needed to hire another housing consultant, to redesign the heating system and to issue the firm commitment application.

Contact: Willie Spearmon, Director, Office of Housing Assistance and Grant Administration, Department of Housing and Urban Development, 451 Seventh Street, SW., Washington, DC 20410-8000, telephone (202) 708-3000.

• Regulation: 24 CFR 891.165 and 24 CFR 891.100(d).

Project/Activity: Billings VOA Elderly Housng, Billings, MT, Project Number: 093-EE013/MT99-S021-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: John C. Weicher, Assistant Secretary for Housing-Federal Housing Commissioner.

Date Granted: September 22, 2004.

Reason Waived: The project is economically designed and comparable to similar projects in the area, and the sponsor/owner exhausted all efforts to obtain additional funding from other sources. Also, additional time was needed to issue the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Nanaikeola Senior Apartments, Waianae, HI, Project Number: 140-EE019/HI10-S991-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: July 2, 2004.

Reason Waived: Additional time was needed to resolve and process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Spruce Landing, Kansas City, MO, Project Number: 084-HD036/MO16-Q011-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: July 12, 2004.

Reason Waived: Additional time was needed to secure the building permit.

Contact: Willie Spearmon, Director, Office of Housing Assistance and Grant Administration, Department of Housing and Urban Development, 451 Seventh Street, SW., Washington, DC 20410-8000, telephone (202) 708-3000.

• Regulation: 24 CFR 891.165.

Project/Activity: St. John's Manor, Glendale, AZ, Project Number: 123-EE079/AZ20-S011-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: July 14, 2004.

Reason Waived: Additional time was needed to secure approval from the City of Glendale on the design plans.

Contact: Willie Spearmon, Director, Office of Housing Assistance and Grant Administration, Department of Housing and Urban Development, 451 Seventh Street, SW., Washington, DC 20410-8000, telephone (202) 708-3000.

• Regulation: 24 CFR 891.165.

Project/Activity: Genesee Housing, Seattle, WA, Project Number: 127-HD028/WA19-Q011-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: July 21, 2004.

Reason Waived: Additional time was needed for the Internal Revenue Service to resolve the issue with project rental assistance contracts as it relates to tax credit eligibility.

Contact: Willie Spearmon, Director, Office of Housing Assistance and Grant Administration, Department of Housing and Urban Development, 451 Seventh Street, SW., Washington, DC 20410-8000, telephone (202) 708-3000.

• Regulation: 24 CFR 891.165.

Project/Activity: Housing Opportunities Corporation, North Providence, RI, Project Number: 016-EE035/RI43-S011-002.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: July 21, 2004.

Reason Waived: Additional time was needed to seek alternative sites due to zoning issues.

Contact: Willie Spearmon, Director, Office of Housing Assistance and Grant Administration, Department of Housing and Urban Development, 451 Seventh Street, SW., Washington, DC 20410-8000, telephone (202) 708-3000.

• Regulation: 24 CFR 891.165.

Project/Activity: East Bay Mental Health Center, East Providence, RI, Project Number: 016-HD033/RI43-Q001-003.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: July 21, 2004.

Reason Waived: Additional time was needed to seek an alternative site due to zoning issues.

Contact: Willie Spearmon, Director, Office of Housing Assistance and Grant Administration, Department of Housing and Urban Development, 451 Seventh Street, SW., Washington, DC 20410-8000, telephone (202) 708-3000.

• Regulation: 24 CFR 891.165.

Project/Activity: Simpson Mid-Town Apartments, Philadelphia, PA, Project Number: 034-EE107/PA26-S001-007.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: July 27, 2004.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Emerald Bay Estates, South Lake Tahoe, CA, Project Number: 136-HD014/CA30-Q011-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: July 28, 2004.

Reason Waived: Additional time was needed to make revisions to the design of the project, obtain necessary state, regional and local approvals, and to allow for seasonal construction limitations.

Contact: Willie Spearmon, Director, Office of Housing Assistance and Grant Administration, Department of Housing and Urban Development, 451 Seventh Street, SW., Washington, DC 20410-8000, telephone (202) 708-3000.

• Regulation: 24 CFR 891.165.

Project/Activity: NCR of Memphis, Memphis, TN, Project Number: 081-EE033/TN40-S011-003.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: August 2, 2004.

Reason Waived: Additional time was needed to seek an alternative site.

Contact: Willie Spearmon, Director, Office of Housing Assistance and Grant Administration, Department of Housing and Urban Development, 451 Seventh Street, SW., Washington, DC 20410-8000, telephone (202) 708-3000.

• Regulation: 24 CFR 891.165.

Project/Activity: Tierra del Sol, Cathedral City, CA, Project Number: 143-EE041/CA43-S001-005.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: August 3, 2004.

Reason Waived: Additional time was needed to modify the permit drawings.

Contact: Willie Spearmon, Director, Office of Housing Assistance and Grant Administration, Department of Housing and Urban Development, 451 Seventh Street, SW., Washington, DC 20410-8000, telephone (202) 708-3000.

• Regulation: 24 CFR 891.165.

Project/Activity: Johnnie B. Moore Towers, Atlanta, GA, Project Number: 061-EE094/GA06-S001-002.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: August 4, 2004.

Reason Waived: Additional time was needed for scheduling the initial closing.

Contact: Willie Spearmon, Director, Office of Housing Assistance and Grant Administration, Department of Housing and Urban Development, 451 Seventh Street, SW., Washington, DC 20410-8000, telephone (202) 708-3000.

• Regulation: 24 CFR 891.165.

Project/Activity: Ottawa River Estates, Toledo, OH, Project Number: 042-HD072/OH12-Q971-004.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: September 20, 2004.

Reason Waived: Additional time was needed as a result of legal issues that arose in connection with this project.

Contact: Willie Spearmon, Director, Office of Housing Assistance and Grant Administration, Department of Housing and Urban Development, 451 Seventh Street, SW., Washington, DC 20410-8000, telephone (202) 708-3000.

• Regulation: 24 CFR 891.165.

Project/Activity: The Daisy House, Rochester, NY, Project Number: 014-EE208/NY06-S011-007.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: September 28, 2004.

Reason Waived: Additional time was needed to resolve Phase II Environmental Site Assessment issues.

Contact: Willie Spearmon, Director, Office of Housing Assistance and Grant Administration, Department of Housing and Urban Development, 451 Seventh Street, SW., Washington, DC 20410-8000, telephone (202) 708-3000.

• Regulation: 24 CFR 891.165.

Project/Activity: Cornhill Apartments, Rochester, NY, Project Number: 014-HD099/NY06-Q001-009.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: September 28, 2004.

Reason Waived: Additional time was needed to resolve environmental issues with the site.

Contact: Willie Spearmon, Director, Office of Housing Assistance and Grant Administration, Department of Housing and Urban Development, 451 Seventh Street, SW., Washington, DC 20410-8000, telephone (202) 708-3000.

• Regulation: 24 CFR 891.165.

Project/Activity: McDowell County Housing Action Network, War, WV, Project Number: 045-EE014/WV15-S011-001.

Nature of Requirement: Section 891.165 provides that the duration of the fund reservation of the capital advance is 18 months from the date of issuance with limited exceptions up to 24 months, as approved by HUD on a case-by-case basis.

Granted by: John C. Weicher, Assistant Secretary for Housing-Federal Housing Commissioner.

Date Granted: September 28, 2004.

Reason Waived: Additional time was needed to revise the plans and specifications and to obtain supplemental funding.

Contact: Willie Spearmon, Director, Office of Housing Assistance and Grant Administration, Department of Housing and Urban Development, 451 Seventh Street, SW., Washington, DC 20410-8000, telephone (202) 708-3000.

• Regulation: 24 CFR 891.205.

Project/Activity: Peebles Court, Pulaski, TN, Project Number: 086-HD032/TN43-Q031-002.

Nature of Requirement: Section 891.205 requires Section 202 project owners to have tax-exempt status under section 501(c)(3) or (c)(4) of the Internal Revenue Code prior to initial closing.

Granted by: John C. Weicher, Assistant Secretary for Housing-Federal Housing Commissioner.

Date Granted: September 9, 2004.

Reason Waived: The required tax-exemption ruling was expected to be issued soon, and was required to be obtained prior to the final closing of the project.

Contact: Beverly J. Miller, Director, Office of Asset Management, Department of Housing and Urban Development, 451 Seventh Street, SW., Washington, DC 20410-7000, telephone (202) 708-3730.

• Regulation: 24 CFR 891.205.

Project/Activity: Gladys Roden Senior Village, Hohenwald, TN, Project Number: 086-EE051/TN43-S032-005.

Nature of Requirement: Section 891.205 requires Section 202 project owners to have tax-exempt status under section 501(c)(3) or (c)(4) of the Internal Revenue Code prior to initial closing.

Granted by: John C. Weicher, Assistant Secretary for Housing-Federal Housing Commissioner.

Date Granted: September 10, 2004.

Reason Waived: The required tax-exemption ruling was expected to be issued soon, and was required to be obtained prior to the final closing of the project.

Contact: Beverly J. Miller, Director, Office of Asset Management, Department of Housing and Urban Development, 451 Seventh Street, SW., Washington, DC 20410-7000, telephone (202) 708-3730.

• Regulation: 24 CFR 891.410(c).

Project/Activity: Riverview Apartments, Sistersville, WV, Project Number: 045-EH100.

Nature of Requirement: Section 891.410 relates to admission of families to projects for elderly or handicapped families that receive reservations under section 202 of the Housing Act of 1959 and housing assistance under section 8 of the U.S. Housing Act of 1937. Section 891.410(c) limits occupancy to very low-income elderly persons. To qualify, households must include a minimum of one person who is at least 62 years of age at the time of initial occupancy.

Granted by: John C. Weicher, Assistant Secretary for Housing-Federal Housing Commissioner.

Date Granted: August 3, 2004.

Reason Waived: HUD approved an age waiver only for the property to help alleviate the occupancy problem.

Contact: Beverly J. Miller, Director, Office of Asset Management, Department of Housing and Urban Development, 451 Seventh Street, SW., Washington, DC 20410-7000, telephone (202) 708-3730.

• Regulation: 24 CFR 891.410(c).

Project/Activity: Greenridge Place Apartments, Meeker, OK, Project Number: 117-EE023.

Nature of Requirement: Section 891.410 relates to admission of families to projects for elderly or handicapped families that receive reservations under section 202 of the Housing Act of 1959 and housing assistance under section 8 of the U.S. Housing Act of 1937. Section 891.410(c) limits occupancy to very low-income elderly persons. To qualify, households must include a minimum of one person who is at least 62 years of age at the time of initial occupancy.

Granted by: John C. Weicher, Assistant Secretary for Housing-Federal Housing Commissioner.

Date Granted: August 24, 2004.

Reason Waived: A waiver of the regulation for one year will allow the owner to maintain full occupancy and the project will not fail.

Contact: Beverly J. Miller, Director, Office of Asset Management, Department of Housing and Urban Development, 451 Seventh Street, SW., Washington, DC 20410-7000, telephone (202) 708-3730.

III. Regulatory Waivers Granted by the Office of Public and Indian

For further information about the following regulatory waivers, please see the name of the contact person that immediately follows the description of the waiver granted.

• Regulation: 24 CFR 902.33(c).

Project/Activity: Brackettville Housing Authority (TX239) Brackettville, TX.

Nature of Requirement: The regulation establishes certain reporting compliance dates. Unaudited financial statements are required to be submitted two months after the public housing agency (PHA) fiscal year end, and audited financial statements will be required no later than nine months after the PHA's fiscal year end, in accordance with the Single Audit Act and OMB Circular A-133.

Granted By: Michael Liu, Assistant Secretary for Public and Indian Housing.

Date Granted: July 7, 2004.

Reason Waived: The PHA received less than $300,000 in federal funds. Therefore, the PHA was not required to submit an audit. However, the PHA did not submit its unaudited financial statement. The late presumptive failure (LPF) score for the audit was replaced with LPF score for the unaudited statement of 24.

Contact: Judy Wojciechowski, Program Manager, NASS, Real Estate Assessment Center, Office of Public and Indian Housing, Department of Housing and Urban Development, 1280 Maryland Ave., SW, Suite 800, Washington, DC 20024, telephone (202) 708-4932.

• Regulation: 24 CFR 902.33(c).

Project/Activity: Georgetown Housing Authority (TX264) Georgetown, TX.

Nature of Requirement: The regulation establishes certain reporting compliance dates/ Unaudited financial statements are required to be submitted two months after the public housing agency (PHA) fiscal year end, and audited financial statements will be required no later than nine months after the PHA's fiscal year end, in accordance with the Single Audit Act and OMB Circular A-133.

Granted By: Michael Liu, Assistant Secretary for Public and Indian Housing.

Date Granted: July 15, 2004.

Reason Waived: The PHA uncovered irregularities in previous years' audits. As a result, the contract with the auditor was rescinded, and a new auditor was hired. The auditor was unable to complete the audit by the June 30, 2004, due date. The audit was submitted September 21, 2004, and approved October 2, 2004.

Contact: Judy Wojciechowski, Program Manager, NASS, Real Estate Assessment Center, Office of Public and Indian Housing, Department of Housing and Urban Development, 1280 Maryland Ave., SW., Suite 800, Washington, DC 20024, telephone (202) 708-4932.

• Regulation: 24 CFR 902.33(c).

Project/Activity: Virgin Islands Housing Authority (VQ001) St. Thomas, VI.

Nature of Requirement: The regulation establishes certain reporting compliance dates. Unaudited financial statements are required to be submitted two months after the public housing agency (PHA) fiscal year end, and audited financial statements will be required no later than nine months after the PHA's fiscal year end, in accordance with the Single Audit Act and OMB Circular A-133.

Granted By: Michael Liu, Assistant Secretary for Public and Indian Housing.

Date Granted: July 26, 2004.

Reason Waived: The PHA has had to reconstruct a substantial amount of documentation in order to adequately reconcile both financial and operational data. Significant progress has been made, but there are critical issues that need be rectified before accurate audited financial statements can be submitted. The PHA has until November 15, 2004, to complete and submit the audited financial information.

Contact: Judy Wojciechowski, Program Manager, NASS, Real Estate Assessment Center, Office of Public and Indian Housing, Department of Housing and Urban Development, 1280 Maryland Ave., SW., Suite 800, Washington, DC 20024, telephone (202) 708-4932.

• Regulation: 24 CFR 941.606(n)(1)(ii)(B).

Project/Activity: Metropolitan Gardens, Phase II HOPE VI Project AL09URD001I197, Birmingham, AL.

Nature of Requirement: Section 941.606(n)(1)(ii)(B) requires that if the partner and/or owner entity (or any other entity with an identity of interest with such parties) wants to serve as a general contractor for the project or development, it may award itself the construction contract only if it can demonstrate to HUD's satisfaction that its bid is the lowest submitted in response to a public request for bids.

Granted By: Michael Liu, Assistant Secretary for Public and Indian Housing

Date Granted: August 9, 2004.

Reason Waived: The Housing Authority of the Birmingham District (HABD) requested the waiver to use Integral/Doster Metropolitan Gardens Company Incorporated, a joint venture of the Integral Building Group, LLC and Doster Construction Partnership, Inc., as the General Contractor for Phase II. The HABD procured Metropolitan Gardens Developer, LLC, comprised of the Integral Properties, LLC and Sloss Real Estate Group, Inc., as the Master Developer for the revitalization of Metropolitan Gardens. The Integral Building Group is an affiliate of Integral Properties, LLC. Integral/Doster Metropolitan Gardens Construction LLC did not bid to become the general contractor, as specified in the provision of the mixed financed regulation, but HABD provided a demonstration that the construction costs were reasonable and are within HUD requirements. The HABD submitted a third party cost estimate of $14,156,885. The construction cost provided by Integral/Doster was $14,086,530, and was $70,355 lower than the third party estimate. As the construction contract is less than or equal to the independent cost estimate, the Department granted the waiver.

Contact: Milan Ozdinec, Deputy Assistant Secretary, Housing Investments, Office of Public and Indian Housing, Department of Housing and Urban Development, 451 Seventh Street, SW., Room 4130, Washington, DC 20410-5000, telephone (202) 401-8812.

• Regulation: 24 CFR 964.215(b).

Project/Activity: Housing Authority of Baltimore City Grant Number—MD00RSF002P0102.

Nature of Requirement: Section 964.215(b) provides that a grant agreement shall be for a term of three to five years (3-5 years), and renewable at the expiration of the term.

Granted By: Michael M. Liu, Assistant Secretary for Public and Indian Housing.

Date Granted: September 23, 2004.

Reason Granted: The housing authority sought additional time for phasing down training and for providing follow-up services for residents who had started their own businesses.

Contact: Dina Lehmann-Kim, Financial Management Division, Office of Public and Indian Housing, Department of Housing and Urban Development, 451 Seventh Street, SW., Room 4226, Washington, DC 20410, telephone 202-708-4932 x3410.

• Regulation: 24 CFR 983.3(a)(2).

Project/Activity: Clay County Housing and Redevelopment Authority (CCHRA), Clay County, MN. The CCHRA requested a waiver regarding uncommitted, available vouchers to permit it to attach 19 project-based vouchers to a combined 38-unit project (an 8-unit of supportive housing project and a 30-unit town house project) along with the Moorhead Public Housing Agency.

Nature of Requirement: Section 983.3(a)(2) requires that the number of units to be project-based must not be under a tenant-based or project based housing assistance payments (HAP) contract or otherwise committed, e.g., vouchers issued to families searching for housing or units under an agreement to enter into a HAP contract (AHAP).

Granted By: Michael Liu, Assistant Secretary for Public and Indian Housing.

Date Granted: July 1, 2004.

Reason Waived: The regulation was waived because it was confirmed through the CCHRA's submission of its most recent Voucher Management System report and self-reported leasing data for May and June 2004 that unit-months leased were declining. Additionally, the Public Housing Information Center (PIC) data verified adequate turnover to support the availability of the required 19 vouchers at the time of AHAP execution.

Contact: Michael Dennis, Acting Director, Housing Voucher Management and Operations Division, Office of Public Housing and Voucher Programs, Office of Public and Indian Housing, Department of Housing and Urban Development, 451 Seventh Street, SW. Room 4210, Washington, DC 20410, telephone (202) 708-0477.

• Regulation: 24 CFR 983.203(a)(3).

Project/Activity: Indianapolis Housing Authority (IHA), Indianapolis, IN. The IHA requested a waiver so that it could maintain separate waiting lists for each of its project-based voucher (PBV) projects.

Nature of Requirement: Section 983.203(a)(3) requires that a public housing agency (PHA) may use the tenant-based waiting list, a merged waiting list, or a separate PBV waiting list for admission to the PBV program. If a PHA opts to have a separate PBV waiting list, it may use a single waiting list for all PBV projects or may use a separate PBV waiting list for an area not smaller than a county or municipality.

Granted By: Michael Liu, Assistant Secretary for Public and Indian Housing.

Date Granted: July 21, 2004.

Reason Waived: The waiver was granted because section 8(o)(13)(J) of the United States Housing Act of 1937 allows, subject to a PHA's waiting list policies and selection preferences, the maintenance of separate waiting lists for PBV structures as long as all families on the PHA's waiting list for PBV assistance can place its name on any of the separate PBV waiting lists. The request was consistent with the statute.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.51(a), (b) and (c), and Section II , Subpart E of the January 16, 2001, Federal Register Notice, Revisions to PHA Project-Based Assistance (PBA) Program; Initial Guidance (Initial Guidance).

Project/Activity: Detroit Housing Commission (DHC), Detroit, MI. The DHC requested a waiver of competitive selection of owner proposals and deconcentration requirements to permit it to attach PBA to 50 units at Woodbridge Estates.

Nature of Requirement: Section 983.51 requires competitive selection of owner proposals in accordance with a housing authority's HUD-approved advertisement and unit selection policy. Section II subpart E of the Initial Guidance requires that in order to meet the Department's goal of deconcentration and expanding housing and economic opportunities, the projects must be in census tracts with poverty rates of less than 20 percent.

Granted By: Michael Liu, Assistant Secretary for Public and Indian Housing.

Date Granted: July 6, 2004.

Reason Waived: Approval to waive competitive selection was granted for this project since the project underwent a competitive process and was awarded Low Income Housing Tax Credits through the Michigan State Housing Development Authority. An exception to the deconcentration requirements was granted since Woodbridge Estates will be located on the former site of Jeffries Homes that had 2,170 public housing units of which 1,873 were demolished. The redeveloped site, which will include Woodbridge Estates, will have 767 units of mixed-income housing. Another 142 units will be developed in areas adjacent to the site. Of the redevelopment units, approximately 30 percent will be market rate and 70 percent will be for low-income families. A commercial component is planned for the site that will include up to 40,000 square feet of retail space for small commercial businesses. The significant decrease in the number of assisted units at this HOPE VI site and planned on-site commercial development are consistent with the goal of deconcentrating poverty and expanding housing and economic opportunities.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.51(a), (b) and (c), and Section II, Subpart E of the January 16,2001, Federal Register Notice, Revisions to PHA Project-Based Assistance (PBA) Program; Initial Guidance (Initial Guidance).

Project/Activity: Chicago Housing Authority (CHA), Chicago, IL. The CHA requested a waiver of competitive selection of owner proposals and deconcentration requirements to permit it to attach PBA to 16 units at Liberty Square.

Nature of Requirement: Section 983.51 requires competitive selection of owner proposals in accordance with a housing authority's HUD-approved advertisement and unit selection policy. Section II subpart E of the Initial Guidance requires that in order to meet the Department's goal of deconcentration and expanding housing and economic opportunities, the projects must be in census tracts with poverty rates of less than 20 percent.

Granted By: Michael Liu, Assistant Secretary for Public and Indian Housing.

Date Granted: July 14, 2004.

Reason Waived: Approval to waive competitive selection was granted for this project since it underwent a competitive process for Low Income Housing Tax Credits through the Illinois State Housing Development Authority and Tax Increment Financing through the City of Chicago's Department of Housing and the Chicago City Council. An exception to the deconcentration requirements was granted since all of the sites of Liberty Square are within one block of the HUD-designated Empowerment Zone and should derive its benefits. The purpose of establishing empowerment zones is to open new businesses, and create jobs, housing, and new educational and healthcare opportunities for thousands of Americans. Just south of the Liberty Square sites, a newly constructed shopping center with a major supermarket and ten-screen Cineplex movie theatre has been developed. The drop in the poverty rate of East Garfield Park between 1990 and 2000 and the goals of an Empowerment Zone are consistent with the goal of deconcentrating poverty and expanding housing and economic opportunities.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.51(a), (b) and (c), and Section II, Subpart E of the January 16, 2001, Federal Register Notice, Revisions to PHA Project-Based Assistance (PBA) Program; Initial Guidance (Initial Guidance).

Project/Activity: Warwick Housing Authority (WHA), Warwick, RI. The WHA requested a waiver of competitive selection of owner proposals under the project-based program for the Newport Heights project. The WHA also requested an exception to the initial guidance for the Newport Heights project that is located in a census tract with a poverty rate greater than 20 percent.

Nature of Requirement: Section 983.51 requires competitive selection of owner proposals in accordance with a PHA's HUD-approved advertisement and unit selection policy. Section II subpart E of the Initial Guidance requires that in order to meet the Department's goal of deconcentration and expanding housing and economic opportunities, the projects must be in census tracts with poverty rates of less than 20 percent.

Granted By: Michael Liu, Assistant Secretary for Public and Indian Housing.

Date Granted: July 21, 2004.

Reason Waived: Approval to waive competitive selection and related requirements was granted for this project since the developer/partner of the project was competitively selected for two previous federal programs. Approval of the exception for deconcentration was granted since the area of the city where the units would be located has been targeted for revitalization and will be a mixed income, privately managed community. The units are part of a 329-unit HOPE VI site and 70 of the 329 units will be market rate units that are targeted to households earning above 80 percent of area median income. The revitalization plan for the neighborhood in which the units will be located includes the construction of a college and day care center. Additionally, a 14-acre mall has been developed near the Newport Heights site, which has created 400 new jobs available to area residents.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.51(a), (b) and (c), and Section II, Subpart E of the January 16, 2001, Federal Register Notice, Revisions to PHA Project-Based Assistance (PBA) Program; Initial Guidance (Initial Guidance).

Project/Activity: Housing Authority of the City of Tampa (HACT), Tampa, FL. The HACT requested a waiver of competitive selection of owner proposals and deconcentration requirements to permit it to attach PBA to 66 units at Belmont Heights Estates Phase III.

Nature of Requirement: Section 983.51 requires competitive selection of owner proposals in accordance with a housing authority's HUD-approved advertisement and unit selection policy. Section II subpart E of the Initial Guidance requires that in order to meet the Department's goal of deconcentration and expanding housing and economic opportunities, the projects must be in census tracts with poverty rates of less than 20 percent.

Granted By: Michael Liu, Assistant Secretary for Public and Indian Housing.

Date Granted: July 27, 2004.

Reason Waived: Approval to waive competitive selection was granted for this project since the developer/partner of this project participated in a competitive process for bond financing and low income housing tax credits that required stringent selection criteria. An exception to the deconcentration requirements was granted since Belmont Heights Estates Phase III will be located on the former site of adjacent public housing projects, Ponce de Leon Courts and College Hill Homes, which had 1,300 units, all of which were demolished. The redeveloped site, which will include Belmont Heights Estates Phase III, will have 825 rental units of which 57 will be market rate. The decrease of 532 assisted units at this HOPE VI site along with newly developed mixed-income housing, are consistent with the goal of deconcentrating poverty and expanding housing and economic opportunities.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.51(a), (b) and (c), and Section II, Subpart F of the January 16, 2001, Federal Register Notice, Revisions to PHA Project-Based Assistance (PBA) Program; Initial Guidance (Initial Guidance).

Project/Activity: Goshen Housing Authority (GHA), Goshen, IN. The GHA requested a waiver of competitive selection of owner proposals and the 25 percent cap on the number of units in a building that can have PBA attached to permit it to attach PBA to nine units at Lincoln Avenue Apartments.

Nature of Requirement: Section 983.51 requires competitive selection of owner proposals in accordance with a housing authority's HUD-approved advertisement and unit selection policy. Section II, Subpart F of the Initial Guidance requires that no more than 25 percent of the dwelling units in any building may be assisted under a housing assistance payments (HAP) contract for PBA except for dwelling units that are specifically made available for elderly families, disabled families and families receiving supportive services. Until regulations are promulgated regarding the category of families receiving supportive services, Headquarters has been authorizing implementation of this aspect of the law on a case-by-case basis.

Granted By: Michael Liu, Assistant Secretary for Public and Indian Housing.

Date Granted: August 9, 2004.

Reason Waived: Approval to waive competitive selection was granted for this project since it was competitively awarded funding by the Indiana Housing Finance Authority and the Federal Home Loan Bank of Indianapolis. An exception to the unit cap was granted since the GHA proposed to provide the following supportive services to families living in Lincoln Avenue Apartments: financial literacy; nutrition; family interaction; government and community awareness; job training; and increased health care awareness.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.51(a), (b) and (c), and 983.55(a) and (d), and Section II subpart E of the January 16, 2001, Federal Register Notice, Revisions to PHA Project-Based Assistance (PBA) Program; Initial Guidance (Initial Guidance).

Project/Activity: Richmond Housing Authority (RHA), Richmond, CA. The RHA requested a waiver of competitive selection of owner proposals and deconcentration requirements to permit it to attach PBA to 62 units at the Easter Hill HOPE VI Project.

Nature of Requirement: Section 983.51 requires competitive selection of owner proposals in accordance with a housing authority's HUD-approved advertisement and unit selection policy. Portions of §§ 983.55(a) and (d) for new construction projects require compliance with PHA selection criteria. Section II, Subpart E of the Initial Guidance requires that in order to meet the Department's goal of deconcentration and expanding housing and economic opportunities, the projects must be in census tracts with poverty rates of less than 20 percent.

Granted By: Michael Liu, Assistant Secretary for Public and Indian Housing.

Date Granted: September 8, 2004.

Reason Waived: Approval to waive competitive selection and related requirements was granted for this project since it underwent a competitive process when the RHA selected its HOPE VI development partner. An exception to the deconcentration requirements was granted since within the past ten years, approximately 2,200 new market rate residential units have been built in the census tract and last year, the seven-acre Harbor Gate Shopping Center was completed. South of the Easter Hill site the State Department of Health Services is developing a research facility projected to house 1,000 employees. Another economic development project will be the conversion of the former Ford assembly plant for commercial and industrial use. These activities are consistent with the goal of deconcentration, and expanding housing and economic opportunities.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.51(a), (b) and (c), and 983.55(a) and (d), and Section II Subpart E of the January 16, 2001, Federal Register Notice, Revisions to PHA Project-Based Assistance (PBA) Program; Initial Guidance (Initial Guidance) and 24 CFR 983.203(a)(3).

Project/Activity: St. Louis Housing Authority (SLHA), St. Louis, MO. The SLHA requested a waiver of competitive selection of owner proposals, deconcentration, and waiting list requirements to permit it to attach PBA to 38 units at the Blumeyer Homes HOPE VI Revitalization Project Phase 2.

Nature of Requirement: Section 983.51 requires competitive selection of owner proposals in accordance with a housing authority's HUD-approved advertisement and unit selection policy. Portions of Section 983.55(a) and (d) for new construction projects requires compliance with PHA selection criteria. Section II, Subpart E of the initial guidance requires that in order to meet the Department's goal of deconcentration and expanding housing and economic opportunities, the projects must be in census tracts with poverty rates of less than 20 percent. Section 983.203(a)(3) requires that a public housing agency (PHA) may use the tenant-based waiting list, a merged waiting list, or a separate PBV waiting list for admission to the PBA program. If a PHA opts to have a separate PBA waiting list, it may use a single waiting list for all PBA projects or may use a separate PBA waiting list for an area not smaller than a county or municipality

Granted By: Michael Liu, Assistant Secretary for Public and Indian Housing.

Date Granted: September 24, 2004.

Reason Waived: Approval to waive competitive selection and related requirements was granted for this project since the developer/partner of the two projects was competitively selected by the SLHA as the HOPE VI partner in accordance with 24 CFR 941.602(d)(1) which requires competitive proposal procedures for qualifications-based procurement. An exception to the deconcentration requirements was granted since the overall revitalization plan for this HOPE VI project was to replace 1,162 public housing units with 229 replacement public housing units, 112 non-public housing Low Income Housing Tax Credit units, 174 market rate rental units and 300 homeownership units for an overall reduction of 521 assisted, low-income units in the census tract. Approval to waive waiting list requirements was granted since Section 8(o)(13)(J) of the U. S. Housing Act of 1937 allows, subject to a PHA's waiting list policies and selection preferences, the maintenance of separate waiting lists for PBA structures as long as all families on the PHA's waiting list for PBA can place their names on any of the separate PBA waiting lists.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(d).

Project/Activity: Housing Authority City of Los Angeles (HACLA) Los Angeles, CA. The HACLA requested a exception payment standard that exceeds 120 percent of the fair market rent as a reasonable accommodation for a housing choice voucher participant that is developmentally disabled and suffer from severe autism.

Nature of Requirement: Section 982.505(d) allows a PHA to approve a higher payment within the basic range for a family that includes a person with disabilities as a reasonable accommodation in accordance with 24 CFR part 8.

Granted By: Michael Liu, Assistant Secretary for Public and Indian Housing.

Date Granted: July 14, 2004.

Reason Waived: Approval of the waiver was granted to allow a housing choice voucher participant to lease a unit with the necessary amenities required to maintain his health and live independently and allow him additional time to find another unit.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(d).

Project/Activity: New York State Division of Housing and Community Renewal (DHCR), New York, NY. The DHCR requested a exception payment standard that exceeds 120 percent of the fair market rent as a reasonable accommodation for a housing choice voucher participant that is physically disabled and suffer from multiple sclerosis.

Nature of Requirement: Section 982.505(d) allows a PHA to approve a higher payment within the basic range for a family that includes a person with disabilities as a reasonable accommodation in accordance with 24 CFR part 8.

Granted By: Michael Liu, Assistant Secretary for Public and Indian Housing.

Date Granted: August 11, 2004.

Reason Waived: Approval of the waiver was granted to allow a housing choice voucher participant to lease a unit with the necessary amenities required to maintain her health and live independently and allow her additional time to find another unit.

Contact: Michael Dennis, Acting Director, Housing Voucher Management and Operations Division, Office of Public and Voucher Programs, Office of Public and Indian Housing, Department of Housing and Urban Development, 451 Seventh Street, SW., Room 4210, Washington, DC 20410, telephone (202) 708-0477.

• Regulation: 24 CFR 982.505(d).

Project/Activity: Arlington County Department of Human Services (DHS), Arlington VA. Arlington County DHS requested an extension of a special exception payment standard that exceeds 120 percent of the fair market rent as a reasonable accommodation for a housing choice voucher holder's disabilities. These disabilities include fibromyalgia, chronic fatigue syndrome, anemia, arthritis, and severe allergic reactions to chemicals and toxins found in paint, turpentine, cleaning fluids, and other substances.

Nature of Requirement: Section 982.505(d) allows a PHA to approve a higher payment standard within the basic range for a family that includes a person with a disability as a reasonable accommodation in accordance with 24 CFR part 8.

Granted By: Michael Liu, Assistant Secretary for Public and Indian Housing.

Date Granted: September 8, 2004.

Reason Waived: Approval of the waiver was granted to allow a disabled housing choice voucher holder to continue to reside in the two-bedroom townhouse that has enabled her to maintain her health and live independently.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.207(b)(3).

Project/Activity: Minneapolis Public Housing Authority (MPHA), Minneapolis, MN. The MPHA requested a waiver of a selection preference regulation in order to select Housing Opportunities for Persons with AIDS (HOPWA)-eligible families to occupy ten of the 28 units that will receive project-based voucher assistance at the Clare Apartments.

Nature of Requirement: Section 982.207(b)(3) states that a housing agency may adopt a preference for admission of families that include a person with disabilities, but may not adopt a preference for persons with a specific disability, such as HIV/AIDS

Granted By: Michael Liu, Assistant Secretary for Public and Indian Housing.

Date Granted: August 12, 2004.

Reason Waived: Since by law persons with HIV/AIDS only may occupy units developed with HOPWA funds, a public housing agency may only authorize occupancy of such units that also receive project-based voucher assistance by persons with HIV/AIDS. Therefore, in selecting families to refer to the owner for occupancy of these units, the MPHA will have to pass over persons on its waiting list until it reaches a person with HIV/AIDS who is interested in moving into one of these units at the Clare Apartments.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.256(c)(1)(i)(ii).

Project/Activity: Housing Authority of New Orleans (HANO), New Orleans, LA. The HANO requested a waiver of the appraisal requirements to permit it to attach project-based assistance (PBA) under the Housing Choice Voucher program to 100 scattered site units as part of the St. Thomas HOPE VI development.

Nature of Requirement: Section 983.256(c)(1)(i) states that to determine that the initial rent to owner is reasonable, the housing agency must use a qualified State-certified appraiser who has no direct or indirect interest in the property or otherwise. Section 983.256(c)(1)(ii) requires that appraisers complete a comparability analysis on HUD-Form 92273.

Granted By: Michael Liu, Assistant Secretary for Public and Indian Housing.

Date Granted: September 28, 2004.

Reason Waived: HANO contracted with Applied Real Estate Analysis, Inc. (AREA) to complete a comprehensive rent reasonableness study to ensure that the rents for Section 8 units are reasonable. The methodology used to develop the study is consistent with regulations governing rent reasonableness and equals or exceeds what is normally done by State-certified appraisers. The rent figure is based on specific comparable units and on market-defined values for the differences between the comparable units and the unit being leased.

Contact: Michael Dennis, Acting Director, Housing Vouchers Management and Operations Division, Office of Public Housing and Voucher Programs, Office of Public and Indian Housing, Department of Housing and Urban Development, 451 Seventh Street, SW., Room 4210, Washington, DC 20410, (202) 708-0477.

• Regulation: 24 CFR 982.207(b)(3).

Project/Activity: The Berkeley Housing Authority (BHA), Berkeley, CA. The BHA requested a waiver of a selection preference regulation in order to select Housing Opportunities for Persons with AIDS (HOPWA)-eligible families to occupy two of the 39 units that will receive project-based voucher assistance at Sacramento Senior Homes.

Nature of Requirement: Section 982.207(b)(3) states that a housing agency may adopt a preference for admission of families that include a person with disabilities, but may not adopt a preference for persons with a specific disability, such as HIV/AIDS.

Granted By: Michael Liu, Assistant Secretary for Public and Indian Housing.

Date Granted: August 27, 2004.

Reason Waived: Since by law persons with HIV/AIDS only may occupy units developed with HOPWA funds, a public housing agency may only authorize occupancy of such units that also receive project-based voucher assistance by persons with HIV/AIDS. Therefore, in selecting families to refer to the owner for occupancy of these units, the BHA will have to pass over other elderly, disabled persons on its waiting list until it reaches a person with HIV/AIDS who is interested in moving into one of these units at Sacramento Senior Homes.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.617(c)(2).

Project/Activity: Bangor Housing Authority (BHA), Bangor, ME. The BHA requested that a waiver to the shared housing regulations to permit the use of the payment standard for a one-bedroom unit rather than the pro-rata portion of the payment standard for a three-bedroom unit as a reasonable accommodation for the voucher participant with a disability. The participant currently has a one-bedroom voucher and has been renting a bedroom in a three-bedroom house owned by a friend, who also lives there. The owner of the house wants more than the maximum amount of rent that the shared housing regulations allow. The participant has been diagnosed with Bipolar Disorder and Intermittent Explosive Disorder. These conditions are exacerbated by living in an apartment complex with its constant interactions with other tenants. The participant's therapist believes that it would be beneficial for him to live in a single-family home with a person he trusts and with whom he can feel safe and secure.

Nature of Requirement: Section 982.617(c)(2) states that the rent to the owner for a family may not exceed the pro-rata portion of the payment standard amount for the size of the shared housing unit.

Granted By: Michael Liu, Assistant Secretary for Public and Indian Housing.

Date Granted: August 11, 2004.

Reason Waived: Approval of the waiver was granted to allow a disabled voucher holder to continue to reside in the house that he shares with a friend he trusts and with whom he feels safe and secure.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: Section II, subpart E of the January 16, 2001, Federal Register Notice, Revisions to PHA Project-Based Assistance (PBA) Program; Initial Guidance (Initial Guidance).

Project/Activity: Myrtle Beach Housing Authority (MBHA), City of Myrtle Beach, SC. The MBHA requested an exception to the initial guidance since the Alliance Inn was located in a census tract with a poverty rate of 25 percent.

Nature of Requirement: Section II, Subpart E of the initial guidance requires that in order to meet the Department's goal of deconcentration and expanding housing and economic opportunities, the projects must be in census tracts with poverty rates of less than 20 percent.

Granted By: Michael Liu, Assistant Secretary for Public and Indian Housing.

Date Granted: July 8, 2004.

Reason Waived: Approval of the exception for deconcentration was granted because since 2000 there has been investment of $109,350,000 in housing, commercial and retail projects in downtown Myrtle Beach. These projects include: Corporate Center I and II office park; Horry State Bank Myrtle Beach Headquarters; 84 Lumber; Quality Collision auto repair facility; United Equipment Rentals; three hotels; and three condominium/hotels. As a result, 500 jobs have been created in the census tract and it is anticipated that an additional 1,300 jobs will be created by the end of the decade. The new housing and economic development activity in census tract 506 was consistent with the goal of deconcentrating poverty and expanding housing and economic opportunities.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: Section II, Subpart E of the January 16, 2001, Federal Register Notice, Revisions to PHA Project-Based Assistance (PBA) Program; Initial Guidance (Initial Guidance).

Project Activity: New York City Housing Authority (NYCHA), New York, NY. The NYCHA requested an exception to the initial guidance since St. John's House II was located in a census tract with a poverty rate of 46.1 percent.

Nature of Requirement: Section II, Subpart E of the initial guidance requires that in order to meet the Department's goal of deconcentration and expanding housing and economic opportunities, the projects must be in census tracts with poverty rates of less than 20 percent.

Granted By: Michael Liu, Assistant Secretary for Public and Indian Housing.

Date Granted: July 14, 2004.

Reason Waived: Approval of the exception for deconcentration was granted since the project will be located in the Bronx Civic Center Neighborhood where more than $850 million of public and private dollars will be invested in housing, infrastructure improvements, recreation, transportation and overall revitalization of this neighborhood. Specific projects include the new Bronx Museum of the Arts ($10 million), Department of Transportation projects ($337 million), the 161st Street Station and Police Department District 11 Headquarters ($34 million), Criminal Court Complex ($250 million), the High School for Law, Government and Justice ($60 million) and Joyce Kilmer Park Phases III and IV ($2 million). The Criminal Court Complex will provide 800 new job opportunities. The revitalization investment and job opportunities in the neighborhood of this project are consistent with the goals of deconcentration.

Contact: Michael Dennis, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 990.107(f) and 990.109.

Project/Activity: Rochester, NY, Housing Authority. A request was made to permit the Rochester Housing Authority to benefit from energy performance contracting for developments that have resident-paid utilities. The Rochester Housing Authority estimates that it could increase energy savings substantially if it were able to undertake energy performance contracting for its resident-paid utilities.

Nature of Requirement: Under 24 CFR part 990, Operating Fund Formula energy conservation incentive that relates to energy performance contracting currently applies to only PHA-paid utilities. The Rochester Housing Authority has resident-paid utilities.

Granted By: Michael Liu, Assistant Secretary for Public and Indian Housing.

Date Granted: August 27, 2004.

Reason Waived: In September 1996, the Oakland Housing Authority was granted a waiver to permit the Authority to benefit from energy performance contracting for developments with resident-paid utilities. The waiver was granted on the basis that the Authority presented a sound and reasonable methodology for doing so. The Rochester Housing Authority requested a waiver based on the same approved methodology. The waiver permits the Authority to exclude from its Performance Funding System (PFS) calculation of rental income the increased rental income due to the difference between updated baseline utility allowances (before implementation of the energy conservation measures) and revised allowances (after implementation of the measures) for the project(s) involved for the duration of the contract period, which cannot exceed 12 years.

Contact: Chris Kubacki, Director, Attn: Peggy Mangum, ext 3982, Public Housing Financial Management Division, Office of Public and Indian Housing, Real Estate Assessment Center, 1280 Maryland Ave., SW., Suite 800, Washington, DC 20024, telephone (202) 708-4932

• Regulation: 24 CFR 1000.214.

Project/Activity: The Kiowa Tribe of Oklahoma's submission of an Indian Housing Plan (IHP) for Fiscal Year (FY) 2004 funding made available under the Native American Housing Assistance and Self-Determination Act (NAHASDA) of 1996. The Tribe is located in Carnegie, OK.

Nature of Requirement: Section 1000.214 establishes a July 1st deadline for the submission of an Indian Housing Plan.

Granted By: Michael Liu, Assistant Secretary for Public and Indian Housing.

Date Granted: September 30, 2004.

Reason Waived: Due to tribal elections not occurring until June 19, 2004, and other pressing matters, the Kiowa Tribe did not have time to review the IHP prepared by the previous administration before submission. In addition, the Tribe did not yet have in place an official authorized to sign the Indian Housing Plan.

Contact: Deborah Lalancette, Director, Grants Management, Denver Program ONAP, Department of Housing and Urban Development, 1999 Broadway, Suite 3390, Denver, CO 80202, telephone (303) 675-1625.

[FR Doc. 05-495 Filed 1-11-05; 8:45 am]

BILLING CODE 4210-32-P